SOCIAL SECURITY ADMINISTRATION

Agency Information Collection Activities: Proposed Request

In compliance with Public Law 104-13, the Paperwork Reduction Act of 1995, the Social Security Administration (SSA) is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

Written comments and recommendations regarding the information collections should be submitted to the SSA Reports Clearance Officer at the following address: (SSA), Social Security Administration, DCFAM, Attn: Reports Clearance Officer, 1-A-21 Operations Bldg., 6401 Security Blvd., Baltimore, MD 21235.

The information collections listed below will be submitted to OMB within 60 days from the date of this notice. Therefore, comments and recommendations regarding the information collections would be most useful if received by the Agency within 60 days from the date of this publication. You can obtain a copy of the collection instruments by calling the SSA Reports Clearance Officer at (410) 965-0454, or by writing to the address listed above.

1. Statement Regarding Date of Birth and Citizenship—0960-0016

The Social Security Administration (SSA) collects information on Form SSA-702 when preferred or other evidence is not available to prove age for an individual applying for Social Security benefits. The respondents are Social Security benefit applicants who need to establish their dates of birth as a factor of entitlement or U.S. citizenship as a factor of payment.

Number of Respondents: 1,200.

Frequency of Response: 1.

Average Burden Per Response: 10 minutes.

Estimated Annual Burden: 200 hours.

2. Request for Reconsideration—Disability Cessation—0960-0349

Form SSA-789 collects information used by SSA to schedule disability hearings and to develop additional evidence/information for claimants whose disability is found to have ceased, not to have existed, or is no longer disabling. The information will also be used to determine if an interpreter is needed for the disability hearing. The respondents are claimants under Titles II & XVI of the Social Security Act who wish to request reconsideration of disability cessation.

Number of Respondents: 49,000.

Frequency of Response: 1.

Average Burden Per Response: 12-15 minutes.

Estimated Annual Burden: 10,290 hours.

3. Self-Employment/Corporate Officer Questionnaire—0960-0487

Form SSA-4184 is used by SSA to develop earnings and corroborate a claimant's allegations regarding retirement when the claimant is self-employed or a corporate officer. The information collected is used to determine the benefit amount. The respondents are self-employed individuals and corporate officers.

Number of Respondents: 20,000.

Frequency of Response: 1.

Average Burden Per Response: 20 minutes.

Estimated Annual Burden: 6,667 hours.

4. Disability Report Update—0960-0511

Form SSA-455 or Form SSA-455-OCR-SM is used by SSA to collect information when the continuing disability review (CDR) diary of a recipient of SSA-administered benefits, based on disability, has matured or there is an indication of possible medical improvement (e.g., a report of return to work or a physician's clearance for work). The information collected from beneficiaries is reviewed by technicians, including specialists in the evaluation of work and earnings and in disability adjudication, to determine if a full medical CDR should be processed or deferred to a later date. The respondents are recipients of benefits, based on disability, under title II and/or XVI of the Social Security Act, as amended.

Number of Respondents: 702,000.

Frequency of Response: 1.

Average Burden Per Response: 15 minutes.

Estimated Annual Burden: 175,500 hours.

5. Farm Arrangement Questionnaire—0960-0064

SSA needs the information collected on Form SSA-7157-F4 to determine if farm rental income may be considered self-employment income for Social Security coverage purposes. The respondents are individuals alleging self-employment income from renting land for farming activities.

Number of Respondents: 38,000.

Frequency of Response: 1.

Average Burden Per Response: 30 minutes.

Estimated Annual Burden: 19,000 hours.

6. Statement for Determining Continuing Eligibility, Supplemental Security Income Payment—0960-0145—Forms SSA-8202-F6 and SSA-8202-OCR-SM

SSA uses form SSA-8202-F6 to conduct low- and middle-error-profile (LEP-MEP) telephone or face-to-face redetermination (RZ) interviews with Supplemental Security Income (SSI) recipients and representative payees. The information collected during the interview is used to determine whether SSI recipients have met and continue to meet all statutory and regulatory requirements for SSI eligibility and whether they have been, and are still receiving, the correct payment amount. Form SSA-8202-OCR-SM (Optical Character Recognition-Self Mailer) collects information similar to that collected on Form SSA-8202-F6. However it is used exclusively in LEP RZ cases on a 6-year cycle. The respondents are recipients of SSI benefits or their representative payees.

| Respondents | Frequency of response | Average burden per response (min.) | Estimated annual burden (hours)
SSA-8202-F6 | 920,000 | 1 | 18 | 276,000
SSA-8202-OCR-SM | 800,000 | 1 | 9 | 120,000
Total burden |  |  |  | 396,000

7. Statement for Determining Continuing Eligibility for Supplemental Security Income Payments—0960-0416

SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of title XVI SSI benefits.

Number of Respondents: 920,000.

Frequency of Response: 1.

Average Burden Per Response: 18 minutes.

Estimated Annual Burden: 276,000 hours.

Dated: April 15, 2002.
Liz Davidson,
Reports Clearance Officer, Social Security Administration.

[FR Doc. 02-9534 Filed 4-18-02; 8:45 am]

BILLING CODE 4191-02-U